DEPARTMENT OF THE INTERIOR

National Park Service

[NPS-WASO-NAGPRA-23503; PPWOCRADN0-PCU00RP14.R50000]

Notice of Inventory Completion: U.S. Department of Defense, Army Corps of Engineers, Nashville District, Nashville, TN

AGENCY: National Park Service, Interior.

ACTION: Notice.

SUMMARY: The U.S. Army Corps of Engineers, Nashville District (USACE), has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the U.S. Army Corps of Engineers, Nashville District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the U.S. Army Corps of Engineers, Nashville District, at the address in this notice by August 18, 2017.

ADDRESSES: Dr. Valerie McCormack, Archaeologist, Department of Defense, Nashville District, Corps of Engineers, U.S. Army Corps of Engineers, Nashville District, 110 9th Avenue South, Room A-405, Nashville, TN 37203, telephone (615) 736-7847, email valerie.j.mccormack@usace.army.mil.

SUPPLEMENTARY INFORMATION: Notice is here given in accordance with the Native American Graves Protection and Repatriation Act (NAGPRA), 25 U.S.C. 3003, of the completion of an inventory of human remains and associated funerary objects under the control of the U.S. Army Corps of Engineers, Nashville District, Nashville, TN. The human remains and associated funerary objects were removed from Trigg County, KY, and Stewart County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Army Corps of Engineers, Nashville District, and the St. Louis District's Mandatory Center for Expertise for the Curation and Management of Archaeological Collections (MCX-CMAC) professional staff in consultation with representatives of the Absentee Shawnee Tribe of Indians of Oklahoma, Cherokee Nation, Eastern Band of Cherokee Indians, Eastern Shawnee Tribe of Oklahoma, Shawnee Tribe, The Chickasaw Nation, The Osage Nation, and United Keetoowah Band of Cherokee Indians in Oklahoma (hereafter referred to as “The Consulted Tribes”).

History and Description of the Remains

In 1959, human remains representing, at minimum, one individual were removed from the Stone site (40SW23) in Stewart County, TN. Michael D. Coe and F. William Fischer of the University of Tennessee undertook archaeological research at the Stone site prior to the inundation of Lake Barkley. Coe and Fisher documented extensive looting and encountered little undisturbed area of the site. Artifacts indicate a Mississippian occupation. The collection is stored in the McClung Museum, University of Tennessee, Knoxville, TN. As indicated by excavation notes, the human remains consist of an infant encased in plaster that is housed within a burlap. Due to the plaster encasement, the MCX-CMAC could not verify the number or age of individuals encased within the plaster. No known individual was identified. No associated funerary objects are present.

In 1959, human remains representing, at minimum, two individuals were removed from the Shamble site (40SW41) in Stewart County, TN. Michael D. Coe and F. William Fischer of the University of Tennessee undertook archaeological research at the Shamble site prior to the inundation of Lake Barkley. Artifacts indicate Woodland and Mississippian occupation and a mound at the site dates to the Mississippian period. The collection is stored in the McClung Museum, University of Tennessee, Knoxville, TN. The human remains consist of an adult male and an adult probable male. No known individuals were identified. No associated funerary objects are present.

In 1962, human remains representing, at minimum, 26 individuals were removed from the Hogan site (40SW24) in Stewart County, TN. J.B. Graham of the University of Tennessee undertook excavation of the site prior to the inundation of Lake Barkley. Artifacts indicated Archaic, Woodland, and Mississippian occupation. The Mississippian occupation covered approximately five acres and contained a stone box grave cemetery. The collection is stored in the McClung Museum, University of Tennessee, Knoxville, TN. The human remains consist of one adult female, three adult probable females, three adult males, 10 adults of indeterminate sex, five sub-adults, and four infants. No known individuals were identified. The 87 associated funerary objects include fragments of a copper rattle consisting of 12 copper fragments and 12 pebbles, 2 reconstructed pottery vessels, 3 pottery vessels, 1 clay owl effigy, 1 pottery trowel, 1 pottery sherd, 1 shell gorget, 8 shell gorget fragments, 6 mussel shells, 8 mussel shell fragments, 1 scalloped quart pendant, 1 limestone disc, 2 bone awls, 1 bone needle, 22 bone scraper fragments, 1 hammerstone, 2 chert flakes, and 2 cannel coals.

In 1962, human remains representing, at minimum, eight individuals were removed from the Buchanan site (40SW33) in Stewart County, TN. J.B. Graham of the University of Tennessee undertook excavation of the site prior to the inundation of Lake Barkley. Artifacts indicate Archaic, Woodland, and Mississippian occupation of less than an acre in size. The collection is stored in the McClung Museum, University of Tennessee, Knoxville, TN. The human remains date to the Archaic and Mississippian period and consist of two adult probable females, two adult probable males, two adults of indeterminate sex, and two infants. No known individuals were identified. The 44 associated funerary objects are pottery sherds representing two vessels.

On July 10, 1962, human remains representing, at minimum, two individuals were removed from the Harry Rodgers site (15TR17) in Trigg County, KY. Rudolf Berle Clay of the University of Kentucky collected the remains from a sand bank. Artifacts indicated Woodland and Mississippian occupation. The collection is stored at the Webb Museum, University of Kentucky, Lexington, KY. The human remains consist of an adult probable male and an infant. No known individuals were identified. No associated funerary objects are present.

In July of 1962, human remains representing, at minimum, one individual were removed from the Wilson site (15TR19) in Trigg County, KY. Rudolf Berle Clay of the University of Kentucky collected the remains from a sand bank. The collection is stored at the Webb Museum, University of Kentucky, Lexington, KY. The human remains consist of an adult probable male. No known individual was identified. No associated funerary objects are present.

These sites were excavated as part of the U.S. Army Corps of Engineers, Lake Barkley Project, by the University of Kentucky and the University of Tennessee, using funds provided by the National Park Service under the River Basins Archaeological Salvage Program.

Determinations Made by the Nashville District

Officials of the U.S. Army Corps of Engineers, Nashville District have determined that:

• Pursuant to 25 U.S.C. 3001(9), the human remains described in this notice are Native American based on the archeological context.

• Pursuant to 25 U.S.C. 3001(9), the human remains described in this notice represent the physical remains of 40 individuals of Native American ancestry.

• Pursuant to 25 U.S.C. 3001(3)(A), the 131 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects from sites 15TR19, 40SW23, and 40SW41 were removed is the aboriginal land of the Cherokee Nation, Eastern Band of Cherokee Indians, and United Keetoowah Band of Cherokee Indians in Oklahoma.

• Treaties, Acts of Congress, or Executive Orders, indicate that the land from which the Native American human remains from sites 15TR17, 40SW24, and 40SW33 were removed is the aboriginal land of Cherokee Nation, Eastern Band of Cherokee Indians, and United Keetoowah Band of Cherokee Indians in Oklahoma.

• Pursuant to 43 CFR 10.11(c)(1), the disposition of the human remains and associated funerary objects may be jointly to the Cherokee Nation, Eastern Band of Cherokee Indians, and United Keetoowah Band of Cherokee Indians in Oklahoma.

Additional Requestors and Disposition

Representatives of any Indian Tribe or Native Hawaiian organization not identified in this notice that wish to request transfer of control of these human remains and associated funerary objects should submit a written request with information in support of the request to: Dr. Valerie McCormack, Archaeologist, Department of Defense, Nashville District, Corps of Engineers, U.S. Army Corps of Engineers, Nashville District, 110 9th Avenue South, Room A-405, Nashville, TN 37203, telephone (615) 736-7847, email valerie.j.mccormack@usace.army.mil by August 18, 2017. After that date, if no additional requestors have come forward, transfer of control of the human remains and associated funerary objects to the Cherokee Nation, Eastern Band of Cherokee Indians, and United Keetoowah Band of Cherokee Indians in Oklahoma may proceed.

The U.S. Army Corps of Engineers, Nashville District is responsible for notifying The Consulted Tribes that this notice has been published.

Dated: June 1, 2017.
Melanie O'Brien,
Manager, National NAGPRA Program.

[FR Doc. 2017-15106 Filed 7-18-17; 8:45 am]

BILLING CODE 4312-52-P